GENERAL SERVICES ADMINISTRATION

[Notice-MA-2023-01; Docket No. 2023-0002; Sequence No. 1]

Revision to Foreign Gift Minimal Value—Correction

AGENCY: Office of Acquisition Policy, General Services Administration (GSA).

ACTION: Notice of GSA bulletin; correction.

SUMMARY: The General Services Administration (GSA) is issuing a correction to Notice-MA-2023-01: Revision to Foreign Gift Minimal Value. The document contained an incorrect bulletin number. This document contains the correct bulletin number.

DATES: The subject bulletin continues to be applicable as of January 1, 2023.

FOR FURTHER INFORMATION CONTACT: For clarification of content, contact Mr. William Garrett, Director, Personal Property Policy, Office of Government-wide Policy, Office of Asset and Transportation Management, at 202-368-8163, or by email at william.garrett@gsa.gov. Please cite Notice of GSA Bulletin FMR B-54.

SUPPLEMENTARY INFORMATION:

Correction

In the Federal Register of March 13, 2023, at 88 FR 15398, correct the following:

a. On page 15398, in the third column, correct the Action to read “Notice of GSA Bulletin FMR B-54, Foreign Gift and Decoration Minimal Value.”.

b. On page 15399, in the first column, correct the last sentence of the Contact section to read “Please cite Notice of GSA Bulletin FMR B-54.”.

c. On page 15399, in the second column, correct the last paragraph of the Background to read “FMR Bulletin B-54 is available at https://www.gsa.gov/policy-regulations/regulations/federal-management-regulation/federal-management-regulation-fmr-related-files#PersonalPropertyManagement.”.

Krystal J. Brumfield,
Associate Administrator, Office of Government-wide Policy.

[FR Doc. 2023-09069 Filed 4-28-23; 8:45 am]

BILLING CODE 6820-14-P